DEPARTMENT OF THE INTERIOR

Bureau of Land Management

[OR-958-6320-ET; HAG-01-0080; OR-10676, et al]

Cancellation of Proposed Withdrawals, and Expiration of Public Land Order; Oregon

AGENCY: Bureau of Land Management, Interior.

ACTION: Notice.

SUMMARY: On October 30, 2000, Public Law (PL) 106-399, the Steens Mountain Cooperative Management and Protective Act of 2000 was enacted into law. As a result of the law, the Bureau of Land Management (BLM) has canceled two withdrawal applications and allowed Public Land Order (PLO) No. 5822 to expire, in Harney County, Oregon.

FOR FURTHER INFORMATION CONTACT: Charles R. Roy, BLM Oregon/Washington State Office, 503-952-6189.

SUPPLEMENTARY INFORMATION: On October 30, 2000, the Steens Mountain Cooperative Management and Protective Act of 2000 (PL 106-399) was enacted into law, superseding two proposed withdrawals and PLO No. 5822.

A Notice of Proposed Withdrawal was published in the Federal Register, (64FR50531, September 17, 1999) as FR Doc. 99-23812, for the BLM to withdraw 619,000 acres of Federal lands, 73,900 acres of Federal minerals, and 37,400 acres of Federal Surface lands from the non-discretionary public land and mining laws, for the Steens Mountain Area. Another Notice of Proposed Withdrawal was published in the Federal Register, (65FR38849, June 22, 2000) as FR Doc. 00-15781, for the BLM to withdraw 17,056.18 acres of public lands, and 680 acres of non-federal lands, from surface entry and mining, but not the mineral leasing, for the Diamond Craters Outstanding Natural Area/Area of Critical Environmental Concern. In addition, Public Land Order No. 5822, published in the Federal Register, (46FR6947, January 22, 1981) as FR Doc. 81-2310, for the BLM withdrew 16,656.18 acres of Federal lands from settlement, sale, location, or entry under the general land laws, including the mining laws, but not from mineral leasing, for the Diamond Craters Geologic Area has also been superseded by PL 106-399, and allowed to expire.

The segregative effect for the Federal interests in the above mentioned proposed withdrawals, and the PLO, are lifted, subject to PL 106-399, valid existing rights, the provisions of existing withdrawals, other segregations of record, and the requirements of applicable law.

Dated: February 26, 2001.
Robert D. DeViney, Jr.,
Chief, Branch of Realty and Records Services.

[FR Doc. 01-5232 Filed 3-2-01; 8:45 am]

BILLING CODE 4310-33-U